SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: February 1, 2010, through March 31, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals By Rule Issued Under 18 CFR § 806.22(e):

1. Allegheny Energy Supply Company, LLC, Hunlock Creek Unit 4, ABR-20100316, Hunlock Township, Luzerne County, Pa.; Approval Date: March 9, 2010.

Approvals By Rule Issued Under 18 CFR 806.22(f):

1. Southwestern Energy Company, Pad ID: Ferguson; ABR-20100201, Herrick Township, Bradford County, Pa.; Approval Date: February 1, 2010.

2. Chief Oil & Gas, LLC, Pad ID: Bacon Drilling Pad #1; ABR-20100202, Burlington Township, Bradford County, Pa.; Approval Date: February 2, 2010.

3. XTO Energy Incorporated, Pad ID: TLT, ABR-20100203, Jordan Township, Lycoming County, Pa.; Approval Date: February 2, 2010.

4. Alta Operating Company, LLC, Pad ID: Blye Pad Site, ABR-20100204, Middletown Township, Susquehanna County, Pa.; Approval Date: February 8, 2010.

5. Chief Oil & Gas, LLC, Pad ID: Kensinger 3H Drilling Pad #1, ABR-20100205, Penn Township, Lycoming County, Pa.; Approval Date: February 9, 2010.

6. Chesapeake Appalachia, LLC, Pad ID: Yengo, ABR-20100206, Cherry Township, Sullivan County, Pa.; Approval Date: February 9, 2010.

7. Anadarko E&P Company, LP, Pad ID: Texas Blockhouse F&G Pad B, ABR-20100207, Pine Township, Lycoming County, Pa.; Approval Date: February 9, 2010.

8. Seneca Resources Corporation; Pad ID: Wilcox Pad F, ABR-20090505.1, Covington Township, Tioga County, Pa.; Approval Date: February 9, 2010.

9. Seneca Resources Corporation, Pad ID: DCNR 595 Pad D, ABR-20090827.1, Bloss Township, Tioga County, Pa.; Approval Date: February 9, 2010, including a partial waiver of 18 CFR 806.15.

10. East Resources, Inc., Pad ID: Ackley 806, ABR-20100208, Clymer Township, Tioga County, Pa.; Approval Date: February 11, 2010.

11. XTO Energy, Incorporated, Pad ID: Kepner 8503H, ABR-20100209, Shrewsbury Township, Lycoming County, Pa.; Approval Date: February 11, 2010.

12. Chesapeake Appalachia, LLC, Pad ID: Dan Ellis, ABR-20100210, Monroe Township, Bradford Township, Pa.; Approval Date: February 11, 2010.

13. XTO Energy, Incorporated, Pad ID: Hazlak 8504, ABR-20100211, Shrewsbury Township, Lycoming County, Pa.; Approval Date: February 12, 2010.

14. Fortuna Energy, Inc., Pad ID: Putnam 01 077, ABR-20100212, Armenia Township, Bradford County, Pa.; Approval Date: February 12, 2010.

15. Fortuna Energy, Inc., Pad ID: Lutz 01 015, ABR-20100213, Troy Township, Bradford County, Pa.; Approval Date: February 12, 2010.

16. Chief Oil & Gas, LLC, Pad ID: Dale Bower Drilling Pad #1, ABR-20100214, Penn Township, Lycoming County, Pa.; Approval Date: February 15, 2010.

17. Cabot Oil & Gas Corporation, Pad ID: BerryD P1, ABR-20100215, Dimock Township, Susquehanna County, Pa.; Approval Date: February 17, 2010.

18. Chesapeake Appalachia, LLC, Pad ID: Masso, ABR-20100216, Auburn Township, Susquehanna Township, Pa.; Approval Date: February 18, 2010.

19. Chesapeake Appalachia, LLC, Pad ID: Welles 5, ABR-20100217, Terry Township, Bradford Township, Pa.; Approval Date: February 19, 2010.

20. WhitMar Exploration Company, Pad ID: Farrell 1H, ABR-20100218, Lake Township, Luzerne County, Pa.; Approval Date: February 19, 2010.

21. Fortuna Energy, Inc., Pad ID: DCNR 587 02 018, ABR-20100219, Ward Township, Tioga County, Pa.; Approval Date: February 19, 2010.

22. Seneca Resources Corporation, Pad ID: J. Pino Pad G, ABR-20090717.1, Covington Township, Tioga County, Pa.; Approval Date: February 19, 2010.

23. Seneca Resources Corporation, Pad ID: D. M. Pino Pad H, ABR-20090933.1, Covington Township, Tioga County, Pa.; Approval Date: February 19, 2010.

24. Fortuna Energy, Inc., Pad ID: DCNR 587 02 008, ABR-20100220, Ward Township, Tioga County, Pa.; Approval Date: February 22, 2010.

25. East Resources, Inc., Pad ID: Burt 518, ABR-20100221, Richmond Township, Tioga County, Pa.; Approval Date: February 22, 2010.

26. East Resources, Inc., Pad ID: Cascarino 443, ABR-20100222, Shippen Township, Tioga County, Pa.; Approval Date: February 22, 2010.

27. Fortuna Energy, Inc., Pad ID: Longenecker 03 008, ABR-20100223, Columbia Township, Bradford County, Pa.; Approval Date: February 22, 2010.

28. Chief Oil & Gas, LLC, Pad ID: Kupscznk Drilling Pad #1H, ABR-20100224, Springville Township, Susquehanna County, Pa.; Approval Date: February 22, 2010.

29. Fortuna Energy, Inc., Pad ID: Harvest Holdings 01 036, ABR-20100225, Canton Township, Bradford County, Pa.; Approval Date: February 22, 2010.

30. East Resources, Inc., Pad ID: Salese 802, ABR-20100226, Clymer Township, Tioga County, Pa.; Approval Date: February 23, 2010.

31. WhitMar Exploration Company, Pad ID: Lansberry Perry 1V, ABR-20100227, Lehman Township, Luzerne County, Pa.; Approval Date: February 23, 2010.

32. Chief Oil & Gas, LLC, Pad ID: Stone Drilling Pad #1, ABR-20100228, Springville Township, Susquehanna County, Pa.; Approval Date: February 25, 2010.

33. East Resources, Inc., Pad ID: Sharretts 805, ABR-20100229, Clymer Township, Tioga County, Pa.; Approval Date: February 25, 2010.

34. Fortuna Energy, Inc., Pad ID: Barrett 03 009, ABR-20100230, Columbia Township, Bradford County, Pa.; Approval Date: February 25, 2010.

35. Cabot Oil and Gas Corporation, Pad ID: RussoB P1, ABR-20100231, Springville Township, Susquehanna County, Pa.; Approval Date: February 26, 2010.

36. Fortuna Energy, Inc., Pad ID: Boor 03 015, ABR-20100232, Columbia Township, Bradford County, Pa.; Approval Date: February 26, 2010.

37. Fortuna Energy, Inc., Pad ID: Putnam 01 076, ABR-20100233, Armenia Township, Bradford County, Pa.; Approval Date: February 26, 2010.

38. WhitMar Exploration Company, Pad ID: Buda 1H, ABR-20100301, Fairmount Township, Luzerne County, Pa.; Approval Date: March 1, 2010.

39. Talisman Energy USA, Inc., Pad ID: Morgan 01 074, ABR-20100302, Armenia Township, Bradford County, Pa.; Approval Date: March 1, 2010.

40. Anadarko E&P Company, LP, Pad ID: COP Tract 255A, ABR-20100303, Snow Shoe Township, Centre County, Pa.; Approval Date: March 1, 2010, including a partial waiver of 18 CFR 806.15.

41. Anadarko E&P Company, LP, Pad ID: COP Tract 231C, ABR-20100304, Boggs Township, Centre County, Pa.; Approval Date: March 1, 2010, including a partial waiver of 18 CFR 806.15.

42. Chesapeake Appalachia, LLC, Pad ID: Updike, ABR-20100305, West Burlington Township, Bradford County, Pa.; Approval Date: March 1, 2010.

43. EXCO Resources (PA), Inc., Pad ID: Bogumil, ABR-20100306, North Abington Township, Lackawanna County, Pa.; Approval Date: March 1, 2010.

44. Seneca Resources Corporation, Pad ID: DCNR 595 Pad E, ABR-20100307, Blossburg Borough, Tioga County, Pa.; Approval Date: March 1, 2010, including a partial waiver of 18 CFR 806.15.

45. Talisman Energy USA, Inc., Pad ID: DCNR 587 02 013, ABR-20100308, Ward Township, Tioga County, Pa.; Approval Date: March 1, 2010.

46. Talisman Energy USA, Inc., Pad ID: DCNR 587 02 014, ABR-20100309, Ward Township, Tioga County, Pa.; Approval Date: March 1, 2010.

47. Cabot Oil and Gas Corporation, Pad ID: KellyP P1, ABR-20100310, Dimock Township, Susquehanna County, Pa.; Approval Date: March 3, 2010.

48. East Resources, Inc., Pad ID: Parthemer 284, ABR-20100311, Charleston Township, Tioga County, Pa.; Approval Date: March 3, 2010.

49. Chesapeake Appalachia, LLC, Pad ID: Cappucci, ABR-20100312, Mehoopany Township, Wyoming County, Pa.; Approval Date: March 5, 2010.

50. Novus Operating, LLC, Pad ID: Austinburg 1H, ABR-20100313, Brookfield Township, Tioga County, Pa.; Approval Date: March 8, 2010.

51. Ultra Resources, Inc., Pad ID: Paul 906, ABR-20100314, West Branch Township, Potter County, Pa.; Approval Date: March 8, 2010.

52. XTO Energy Incorporated, Pad ID: Dietterick, ABR-20100315, Jordan Township, Lycoming County, Pa.; Approval Date: March 9, 2010.

53. Seneca Resources Corporation, Pad ID: Murray Pad A, ABR-2010317, Richmond Township, Tioga County, Pa.; Approval Date: March 10, 2010.

54. Chesapeake Appalachia, LLC, Pad ID: Otis, ABR-20100318, Herrick Township, Bradford County, Pa.; Approval Date: March 10, 2010.

55. Chesapeake Appalachia, LLC, Pad ID: Claude, ABR-20100319, Auburn Township, Susquehanna County, Pa.; Approval Date: March 10, 2010.

56. Chesapeake Appalachia, LLC, Pad ID: Sivers, ABR-20100320, Tuscarora Township, Bradford County, Pa.; Approval Date: March 10, 2010.

57. Chesapeake Appalachia, LLC, Pad ID: Marbaker, ABR-20100321, Auburn Township, Susquehanna County, Pa.; Approval Date: March 11, 2010.

58. Cabot Oil and Gas Corporation, Pad ID: HinkleyR P1, ABR-20100322, Springville Township, Susquehanna County, Pa.; Approval Date: March 12, 2010.

59. Chesapeake Appalachia, LLC, Pad ID: Engelke, ABR-20100323, Troy Township, Bradford County, Pa.; Approval Date: March 12, 2010.

60. Chesapeake Appalachia, LLC, Pad ID: Acla, ABR-20100324, Terry Township, Bradford County, Pa.; Approval Date: March 15, 2010.

61. Cabot Oil and Gas Corporation, Pad ID: BlaisureJo P1, ABR-20100325, Jessup Township, Susquehanna County, Pa.; Approval Date: March 15, 2010.

62. Cabot Oil and Gas Corporation, Pad ID: RussoB P2, ABR-20100326, Springville Township, Susquehanna County, Pa.; Approval Date: March 15, 2010.

63. Chesapeake Appalachia, LLC, Pad ID: Rose, ABR-20100327, Towanda Township, Bradford County, Pa.; Approval Date: March 16, 2010.

64. Chesapeake Appalachia, LLC, Pad ID: Hoffman, ABR-20100328, Towanda Township, Bradford County, Pa.; Approval Date: March 17, 2010.

65. Chesapeake Appalachia, LLC, Pad ID: Walt, ABR-20100329, Albany Township, Bradford County, Pa.; Approval Date: March 17, 2010.

66. East Resources, Inc., Pad ID: Waskiewicz 445, ABR-20100330, Delmar Township, Tioga County, Pa.; Approval Date: March 17, 2010.

67. Cabot Oil and Gas Corporation, Pad ID: WarnerA P1, ABR-20100331, Dimock Township, Susquehanna County, Pa.; Approval Date: March 17, 2010.

68. Chesapeake Appalachia, LLC, Pad ID: Kalinowski, ABR-20100332, West Burlington Township, Bradford County, Pa.; Approval Date: March 18, 2010.

69. Cabot Oil and Gas Corporation, Pad ID: GrosvenorD P1, ABR-20100333, Dimock Township, Susquehanna County, Pa.; Approval Date: March 18, 2010.

70. Chief Oil & Gas, LLC, Pad ID: Duane Jennings Drilling Pad #1, ABR-20100334, Granville Township, Bradford County, Pa.; Approval Date: March 22, 2010.

71. East Resources, Inc., Pad ID: Webster 549, ABR-20100335, Delmar Township, Tioga County, Pa.; Approval Date: March 22, 2010.

72. Chief Oil & Gas, LLC, Pad ID: Kingsley Drilling Pad #1, ABR-20100336, Monroe Township, Bradford County, Pa.; Approval Date: March 23, 2010.

73. Chief Oil & Gas, LLC, Pad ID: Sechrist Drilling Pad #1, ABR-20100337, Canton Township, Bradford County, Pa.; Approval Date: March 23, 2010.

74. Chief Oil & Gas, LLC, Pad ID: Ransom Drilling Pad #1, ABR-20100338, Lenox Township, Susquehanna County, Pa.; Approval Date: March 23, 2010.

75. Chesapeake Appalachia, LLC, Pad ID: Elevation, ABR-20100339, North Towanda Township, Bradford County, Pa.; Approval Date: March 24, 2010.

76. Chesapeake Appalachia, LLC, Pad ID: Lundy, ABR-20100340, Standing Stone Township, Bradford County, Pa.; Approval Date: March 24, 2010.

77. Chesapeake Appalachia, LLC, Pad ID: Plymouth, ABR-20100341, Terry Township, Bradford County, Pa.; Approval Date: March 24, 2010.

78. Chesapeake Appalachia, LLC, Pad ID: Leaman, ABR-20100342, West Burlington Township, Bradford County, Pa.; Approval Date: March 24, 2010.

79. Cabot Oil & Gas Corporation, Pad ID: Depaola P1, ABR-20100343, Dimock Township, Susquehanna County, Pa.; Approval Date: March 25, 2010.

80. Ultra Resources, Inc., Pad ID: 808 Thomas, ABR-20100344, Elk Township, Tioga County, Pa.; Approval Date: March 26, 2010.

81. Chesapeake Appalachia, LLC, Pad ID: Schoonover, ABR-20100345, Wysox Township, Bradford County, Pa.; Approval Date: March 26, 2010.

82. Penn Virginia Oil & Gas Corporation, Pad ID: Kibbe #1, ABR-20100346, Harrison Township, Potter County, Pa.; Approval Date: March 27, 2010.

83. Talisman Energy USA, Inc., Pad ID: Moretz 03 036, ABR-20100347, Wells Township, Bradford County, Pa.; Approval Date: March 27, 2010.

84. Chesapeake Appalachia, LLC, Pad ID: Rosalie, ABR-20100348, Windham Township, Wyoming County, Pa.; Approval Date: March 29, 2010.

85. Anadarko E&P Company, LP, Pad ID: COP Tract 342 D, ABR-20100349, Beech Creek Township, Clinton Township, Pa.; Approval Date: March 29, 2010, including a partial waiver of 18 CFR 806.15.

86. East Resources, Inc., Pad ID: Cummings 823, ABR-20100350, Chatham Township, Tioga County, Pa.; Approval Date: March 29, 2010.

87. East Resources, Inc., Pad ID: Bartlett 531, ABR-20100351, Richmond Township, Tioga County, Pa.; Approval Date: March 29, 2010.

88. EOG Resources, Inc., Pad ID: PHC Pad B, ABR-20100352, Lawrence Township, Clearfield County, Pa.; Approval Date: March 29, 2010.

89. EOG Resources, Inc., Pad ID: PHC Pad A, ABR-20100353, Lawrence Township, Clearfield County, Pa.; Approval Date: March 29, 2010.

90. Talisman Energy USA, Inc., Pad ID: DCNR 587 02 005, ABR-20100354, Ward Township, Tioga County, Pa.; Approval Date: March 30, 2010.

91. Talisman Energy USA, Inc., Pad ID: DCNR 587 02 006, ABR-20100355, Ward Township, Tioga County, Pa.; Approval Date: March 30, 2010.

92. Turm Oil, Inc., Pad ID: J. Bowen, ABR-20100356, Rush Township, Susquehanna County, Pa.; Approval Date: March 30, 2010.

93. Turm Oil, Inc., Pad ID: L. Hardic, ABR-20100357, Rush Township, Susquehanna County, Pa.; Approval Date: March 30, 2010.

94. Turm Oil, Inc., Pad ID: B Poulsen, ABR-20100358, Auburn Township, Susquehanna County, Pa.; Approval Date: March 30, 2010.

95. Turm Oil, Inc., Pad ID: La Rue, ABR-20100359, Rush Township, Susquehanna County, Pa.; Approval Date: March 30, 2010.

96. Turm Oil, Inc., Pad ID: MJ Barlow, ABR-20100360, Auburn Township, Susquehanna County, Pa.; Approval Date: March 30, 2010.

Authority: Pub. L. 91-575, 84 Stat. 1509 et seq., 18 CFR parts 806, 807, and 808.

Dated: April 26, 2010.
Stephanie L. Richardson,
Secretary to the Commission.

[FR Doc. 2010-10393 Filed 5-3-10; 8:45 am]

BILLING CODE 7040-01-P